DEPARTMENT OF TRANSPORTATION

Federal Transit Administration

Prevention of Alcohol Misuse and Prohibited Drug Use in Transit Operations

AGENCY: Federal Transit Administration (FTA), DOT.

ACTION: Notice of random drug and alcohol testing rates for 2017.

SUMMARY: This notice announces the random testing rates for employers subject to the Federal Transit Administration's (FTA) drug and alcohol rules for 2017.

DATES: Effective Date: January 1, 2017.

FOR FURTHER INFORMATION CONTACT: Iyon Rosario, Drug and Alcohol Program Manager for the Office of Safety and Oversight, 1200 New Jersey Avenue SE., Washington, DC 20590 (telephone: 202-366-2010 or email: Iyon.Rosario@dot.gov.

SUPPLEMENTARY INFORMATION: On January 1, 1995, FTA required large transit employers to begin drug and alcohol testing employees performing safety-sensitive functions and submit annual reports by March 15 of each year beginning in 1996. The annual report includes the number of employees who had a verified positive for the use of prohibited drugs, and the number of employees who tested positive for the misuse of alcohol during the reported year. Small employers commenced their FTA-required testing on January 1, 1996, and began reporting the same information as the large employers beginning March 15, 1997.

The testing rules were updated on August 1, 2001, and established a random testing rate for prohibited drugs and the misuse of alcohol. The rule initially required employers to conduct random drug tests for prohibited drug use at a rate equivalent to at least 50 percent of their total number of safety-sensitive employees and a rate of at least 25 percent for the misuse of alcohol. However, in accordance with 49 CFR 655.45 both random testing rates may be lowered based on industry reported violations over preceding consecutive calendar years. Accordingly, in 2005 the Administrator reduced the random alcohol testing rate from 25 percent to 10 percent and reduced the random drug testing rate from 50 percent to 25 percent in 2007 (see 72 FR 1057).

Once lowered, the random drug testing rate may be increased to 50 percent if the positive rate equals or exceeds one percent for any one year (“positive rate” means the number of verified positive results for random drug tests conducted under 49 CFR part 655.45 plus the number of refusals of random tests, divided by the total number of random drug test results (i.e., positive, negative, and refusals). Likewise, the alcohol random rate may be increased from 10 percent to 25 percent should the reported violation rate be equal to or greater than 0.5 percent, but less than 1 percent for any one year. Furthermore, the random alcohol rate will be increased to 50 percent if the confirmed violation rate is equal to or greater than 1 percent (“violation rate” means the number of covered employees found during random tests administered under 49 CFR 655.45 to have an alcohol concentration of .04 or greater, plus the number of employees who refuse a random test required by 49 CFR 655.49, divided by the total reported number of random alcohol tests).

Pursuant to 49 CFR 655.45(b), the Administrator's decision to increase or decrease the minimum annual percentage rate for random drug and alcohol testing is based, in part, on the reported positive drug and alcohol violation rates for the entire public transportation industry. The information used for this determination is drawn from the drug and alcohol Management Information System (MIS) reports required by 49 CFR 655.72. In determining the reliability of the data, the Administrator considers the quality and completeness of the reported data, or may obtain additional information or reports from employers, and make appropriate modifications in calculating the industry's verified positive results and violation rates.

For 2017, the Administrator has determined the random drug testing rate will remain at 25 percent based on a positive rate lower than 1.0 percent for random drug test data for calendar years 2014 and 2015. The random drug rates were .87 percent for 2014 and .90 percent for 2015. Further, the Administrator has determined that the random alcohol testing rate for 2017 will remain at 10 percent because the violation rate was again lower than 0.5 percent for calendar years 2014 and 2015. The random alcohol violation rates were 0.14 percent for 2014 and 0.14 percent for 2015.

Detailed reports on the FTA drug and alcohol testing data collected from transit employers may be obtained from the FTA, Office of Safety and Oversight, 1200 New Jersey Avenue SE., Washington, DC 20590, (202) 366-2010 or at http://transit-safety.fta.dot.gov/publications/Default.aspx.

Issued in Washington, DC.
Matthew J. Welbes,
Executive Director.

[FR Doc. 2017-06172 Filed 3-28-17; 8:45 am]

BILLING CODE P